POSTAL SERVICE

39 CFR Part 111

Express Mail Open and Distribute and Priority Mail Open and Distribute Changes and Updates

AGENCY: Postal Service ™.

ACTION: Final rule.

SUMMARY: The Postal Service is revising Mailing Standards of the United States Postal Service, Domestic Mail Manual (DMM®) 705.16 to reflect changes and updates for Express Mail® Open and Distribute and Priority Mail® Open and Distribute to improve efficiencies in processing and to control costs.

DATES: Effective Date: April 5, 2010.

FOR FURTHER INFORMATION CONTACT: Karen Key, 202-268-7492 or Garry Rodriguez, 202-268-7281.

SUPPLEMENTARY INFORMATION: On January 29, 2010, the Postal Service published a Federal Register proposed rule (75 FR 4741-4742) inviting comments on a revision to change the standards for Express Mail Open and Distribute and Priority Mail Open and Distribute shipments, to discontinue the use of Label 23 and facsimile Tags 190 and 161, and to update the mailing standards. After reviewing the comments, and upon further consideration of the proposed revisions, the Postal Service adopts the proposed rule with minor revisions.

Comments

The Postal Service received five comments:

1. One commenter expressed concern about discontinuing the use of Label 23 and suggested tray boxes to accommodate EMM trays. The Postal Service introduced tray boxes to address Open and Distribute customers' concerns on the security of their mail in a letter tray during processing. The current tray box sizes were a result of customer feedback. The decision to discontinue Label 23 supports our goal to provide a secure method for Open and Distribute containers.

2. One commenter recommended changes to the tray boxes. The Postal Service has determined that this suggestion is outside the scope of this final rule.

3. One commenter questioned discontinuing the optional use of facsimile Tag 190. The Postal Service's decision to standardize the tags and to discontinue the optional use of facsimile Tags 190 and 161 was made to ensure visibility of the product for accurate and efficient processing of Open and Distribute containers. In response to customer needs, the Postal Service is investigating the production of a self-adhesive Tag 190 for DDU shipments made in USPS®-supplied Flat Rate Boxes and envelopes. Customers will be notified of the new self-adhesive Tag 190 when it becomes available.

4. One internal commenter brought to our attention that under authorization, Open and Distribute containers were allowed to be presented sealed. This exception was incorporated into the final rule.

5. One commenter questioned the 70 pound weight limit. The Postal Service has determined that this is outside the scope of this final rule.

Summary

With the introduction of tray boxes, Label 23, once used to identify letter-size trays, is no longer needed, and the Postal Service is discontinuing its use. Customers now have the option to place their trays in either sacks or Open and Distribute tray boxes. The Open and Distribute tray boxes are provided free of charge by the Postal Service to all Open and Distribute customers and are available for both half-size and full-size trays.

The Postal Service also discontinues the optional use of facsimile Tags 190 and 161. Customers must use the USPS-supplied tags which are easy to identify.

Additionally, the Postal Service is updating the mailing standards to reflect Open and Distribute containers must not exceed the 70-pound weight limit and that PS Form 3152, Confirmation Services Certification, must be submitted with each mailing. The Postal Service also updates the mailing standards to clarify that Open and Distribute containers must be presented unsealed, unless accepted under an alternate procedure authorized by Business Mailer Support.

The Postal Service adopts the following changes to Mailing Standards of the United States Postal Service, Domestic Mail Manual (DMM), which is incorporated by reference in the Code of Federal Regulations. See 39 CFR 111.1.

List of Subjects in 39 CFR Part 111

Administrative practice and procedure, Postal Service.

PART 111—[AMENDED]

1. The authority citation for 39 CFR Part 111 continues to read as follows:

Authority: 5 U.S.C. 552(a); 39 U.S.C. 101, 401, 403, 404, 414, 416, 3001-3011, 3201-3219, 3403-3406, 3621, 3622, 3626, 3632, 3633, and 5001.

2. Revise the following sections of Mailing Standards of the United States Postal Service, Domestic Mail Manual (DMM) as follows:

* * * * *

700 Special Standards

* * * * *

705 Advanced Preparation and Special Postage Payment Systems

* * * * *

16.0 Express Mail Open and Distribute and Priority Mail Open and Distribute

16.1 Prices and Fees

16.1.1 Basis of Price

[Add new second sentence to 16.1.1 to clarify the maximum weight as follows:]

* * * The maximum weight for each container is 70 pounds. * * *

* * * * *

16.1.5 Payment Method

[Revise the third sentence of 16.1.5 to eliminate Label 23 as follows:]

* * * Priority Mail postage must be affixed to or hand-stamped on green Tag 161, pink Tag 190, to the Open and Distribute tray box, or be part of the address label.

* * * * *

16.5 Preparation

16.5.1 Containers for Expedited Transport

Acceptable containers for expedited transport are as follows:

* * * * *

[Revise item B to remove the reference to label 23 as follows:]

b. A Priority Mail Open and Distribute shipment must be contained in either a USPS-approved sack using Tag 161 or Tag 190 or a USPS-provided Priority Mail Open and Distribute tray box (Tag 161 and 190 are not required for tray boxes, only the 4x6 address label should be applied), except as provided in 16.5.1c and 16.5.1d.

* * * * *

16.5.4 Tags 161 and 190—Priority Mail Open and Distribute

[Revise the first sentence of the introductory paragraph of 16.5.4 to remove the optional use of facsimiles as follows:]

Tag 161 and Tag 190 provide a place to affix Priority Mail postage and the address label for the destination facility. * * *

* * * * *

[Revise the second sentence in 16.5.4b to remove the option of a facsimile to read as follows:]

b. * * * This tag also must be affixed to containers used for Priority Mail Open and Distribute shipments prepared under 16.5.1c or 16.5.1d.

[Revise heading of 16.5.5 to read as follows:]

16.5.5 Tray Boxes—Express Mail Open and Distribute and Priority Mail Open and Distribute

[Revise 16.5.5 to read as follows:]

As an alternative to sacks for Express Mail Open and Distribute and Priority Mail Open and Distribute shipments, unless prepared under 16.5.1c or 16.5.1d, mailers may use USPS-supplied tray boxes for this service. Mailers must place a 1-foot or 2-foot letter tray into the appropriate size tray box.

16.5.6 Address Labels

[Revise the first sentence of 16.5.6 by removing Label 23 as follows:]

In addition to Tag 157, Tag 161, or Tag 190, USPS-supplied containers and envelopes and mailer-supplied containers used for Express Mail Open and Distribute or Priority Mail Open and Distribute must bear an address label that states “OPEN AND DISTRIBUTE AT:” followed by the facility name. * * *

* * * * *

16.6 Enter and Deposit

[Revise the heading of 16.6.1 to read as follows:]

16.6.1 Verification

[Delete the second sentence in 16.6.1 and add new second sentence as follows:]

* * * Open and Distribute containers must not be sealed until the BMEU verification and acceptance of the contents has been completed, unless accepted under an alternate procedure authorized by Business Mailer Support.

[Add new 16.6.2, Entry, as follows:]

16.6.2 Entry

A PS Form 3152, Confirmation Services Certification, must accompany each shipment. Mailers must present shipments to the BMEU with enough time for acceptance, processing, and dispatch before the facility's critical entry time for Express Mail or Priority Mail.

* * * * *

We will publish an appropriate amendment to 39 CFR Part 111 to reflect these changes.

Stanley F. Mires,
Chief Counsel, Legislative.

[FR Doc. 2010-6102 Filed 3-23-10; 8:45 am]

BILLING CODE 7710-12-P